DEPARTMENT OF THE INTERIOR

Bureau of Land Management

[LLNV952000 L14200000.BJ0000; 10-08807; MO#4500011812; TAS: 14X1109]

Filing of Plats of Survey; Nevada

AGENCY: Bureau of Land Management, Interior.

ACTION: Notice.

SUMMARY: The purpose of this notice is to inform the public and interested State and local government officials of the filing of Plats of Survey in Nevada.

DATES: Effective Dates: Filing is effective at 10 a.m. on the dates indicated below.

FOR FURTHER INFORMATION CONTACT: David D. Morlan, Chief, Branch of Geographic Sciences, Bureau of Land Management, Nevada State Office, 1340 Financial Blvd., P.O. Box 12000, Reno, Nevada 89520, 775-861-6541.

SUPPLEMENTARY INFORMATION: 1. The Supplemental Plat of Survey of the following described lands was officially filed at the Nevada State Office, Reno, Nevada, on October 15, 2009:

The supplemental plat, showing a subdivision of original lots 6 and 7, section 6, Township 16 North, Range 64 East, Mount Diablo Meridian, Nevada, was accepted October 13, 2009.

This supplemental plat was prepared to meet certain administrative needs of the Bureau of Land Management.

2. The Supplemental Plat of Survey of the following described lands was officially filed at the Nevada State Office, Reno, Nevada, on November 5, 2009.

The supplemental plat, showing a subdivision of lot 14, section 17, Township 19 South, Range 60 East, Mount Diablo Meridian, Nevada, was accepted November 3, 2009.

This supplemental plat was prepared to meet certain administrative needs of the Bureau of Land Management.

3. The Plat of Survey of the following described lands was officially filed at the Nevada State Office, Reno, Nevada, on December 8, 2009:

The plat, representing the dependent resurvey of the Fourth Standard Parallel North through a portion of Range 32 East, the east and west boundaries, and a portion of the subdivisional lines of Township 21 North, Range 32 East, Mount Diablo Meridian, Nevada, under Group No. 862, was accepted December 8, 2009.

This survey was executed to meet certain administrative needs of the U.S. Fish and Wildlife Service.

4. The Supplemental Plats of Survey of the following lands were officially filed at the Nevada State Office, Reno, Nevada, on December 11, 2009:

The plat, showing the subdivision of lots 8, 13, 14, 15 and 20, section 5, Township 33 North, Range 55 East, Mount Diablo Meridian, Nevada, was accepted December 10, 2009.

The supplemental plat, showing the subdivision of lots 22 and 23, section 6, Township 33 North, Range 55 East, Mount Diablo Meridian, Nevada, was accepted December 10, 2009.

These supplemental plats were prepared to meet certain administrative needs of the Bureau of Land Management.

5. The above-listed surveys are now the basic record for describing the lands for all authorized purposes. These surveys have been placed in the open files in the Bureau of Land Management, Nevada State Office and are available to the public as a matter of information. Copies of the surveys and related field notes may be furnished to the public upon payment of the appropriate fees.

Dated: January 21, 2010.
David D. Morlan,
Chief Cadastral Surveyor, Nevada.

[FR Doc. 2010-1727 Filed 1-27-10; 8:45 am]

BILLING CODE 4310-HC-P